DEPARTMENT OF ENERGY

Bonneville Power Administration; Montana-to-Washington Transmission System Upgrade Project EIS

AGENCY: Bonneville Power Administration (BPA), Department of Energy (DOE).

ACTION: Notice of intent to prepare an Environmental Impact Statement (EIS) and notice of floodplain and wetlands involvement.

SUMMARY: BPA intends to prepare an EIS in accordance with the National Environmental Policy Act (NEPA) on several proposed upgrades to its existing transmission system. The proposed upgrades would consist of a combination of reinforcements of five existing BPA substations, placement of new conductor on sections of an existing BPA transmission line, and the addition of a new series compensation substation along an existing BPA transmission line corridor. The substation reinforcements would occur at Garrison and Hot Springs substations in Montana, Dworshak and Hatwai substations in Idaho, and Bell Substation in Washington. The line reconductoring would occur on four sections, totaling 12 miles, of the Dworshak-Taft No. 1 500-kilovolt (kV) line in Montana and Idaho. The series compensation substation would be added along the Garrison-Taft 500-kV line corridor in Montana.

The proposed upgrades are needed to respond to requests for long-term firm transmission service that BPA has received for the West of Garrison and West of Hatwai transmission paths. These upgrades would increase the firm east-to-west transfer capability from BPA's Garrison Substation in Western Montana to load centers west of the Cascades and to market hubs serving the entire Northwest power market.

With this Notice of Intent, BPA is initiating the public scoping process for the EIS. BPA is requesting comments about potential environmental impacts that it should consider as it prepares the EIS for the proposed project.

In accordance with DOE regulations for compliance with floodplain and wetlands environmental review requirements, BPA will prepare a floodplain and wetlands assessment to avoid or minimize potential harm to or within any affected floodplains and wetlands. The assessment will be included in the EIS.

DATES: Written scoping comments are due no later than June 18, 2012, and can be submitted at the addresses below. Verbal and written comments may also be made at the EIS scoping meetings that will be held at the locations listed below.

ADDRESSES: Send letters with comments and suggestions on the proposed scope of the Draft EIS, and requests to be placed on the project mailing list, to Bonneville Power Administration, Public Affairs Office—DKE-7, P.O. Box 14428, Portland, OR 97293-4428, or by fax to (503) 230-4019. You also may call BPA's toll free comment line at (800) 622-4519 and leave a message (please include the name of this project); or submit comments online at www.bpa.gov/comment. BPA will also post all comment letters received in their entirety on BPA's Web site at www.bpa.gov/comment.

On May 22, 2012, a scoping meeting will be held from 5:00 p.m. to 7:00 p.m. at the Lewiston Community Center, 1424 Main Street, Lewiston, Idaho 83501. On May 23, 2012, a scoping meeting will be held from 5:00 p.m. to 7:00 p.m. at the Linwood Elementary School, 906 West Weile Avenue, Spokane, Washington 99208. On June 12, 2012, a scoping meeting will be held from 5:00 p.m. to 7:00 p.m. at the Missoula Fire Department (Station 4), 3011 Latimor Street, Missoula, Montana 59808. And lastly, on June 13, 2012, a scoping meeting will be held from 5:00 p.m. to 7:00 p.m. at the St. Regis School, 6 Tiger Street, St. Regis, Montana 59866.

At these informal open-house style meetings, BPA will provide maps and other information about the project and have members of the project team available to answer questions and accept oral and written comments. You may stop by anytime during the open house.

FOR FURTHER INFORMATION CONTACT: Andrew M. Montaño, Environmental Protection Specialist, Bonneville Power Administration—KEC-4, P.O. Box 3621, Portland, Oregon 97208-3621; toll-free telephone 1-800-282-3713; direct telephone 503-230-4145; or email ammontano@bpa.gov. You may also contact Amit Sinha, Project Manager, Bonneville Power Administration—TEP-3, P.O. Box 3621, Portland, Oregon 97208-3621; toll-free telephone 1-800-282-3713; direct telephone 360-619-6178; or email axsinha@bpa.gov. Additional information can be found at BPA's project Web site at www.bpa.gov/go/M2W.

SUPPLEMENTARY INFORMATION: In 2010, BPA conducted a Network Open Season (NOS) process to help manage its list of reque“”sts for long-term transmission service. During the NOS process, utilities and power generators (including wind generators and power marketers) requested the use of BPA's transmission system to transmit their power. To determine if BPA could offer the service requested, BPA studied the transmission system and identified where existing capacity was available and where the system needed upgrades. The studies found that there was not enough available transmission capacity to accommodate all requests for long-term service from the west side of its Garrison Substation in Western Montana to load centers west of the Cascades. Wind generation facilities built and proposed in the region have greatly increased the amount of power being produced in Montana seeking load and markets in the Northwest. Further studies revealed that reinforcing the BPA Network at strategic locations on the Garrison-Taft, Taft-Dworshak and Taft-Bell, Hatwai-Lower Granite, and Grand Coulee-Bell sections would allow BPA to accommodate the requests for transmission service in this area.

BPA must respond to these requests for transmission service under its Open Access Transmission Tariff. This tariff, which is generally consistent with the Federal Energy Regulatory Commission's pro forma open access tariff, has procedures that provide access to BPA's transmission system for all eligible customers, consistent with all BPA requirements (including the availability or development of sufficient transmission capacity) and subject to an environmental review under NEPA. The proposed Montana-to-Washington Transmission System Upgrade Project, formerly known as the Colstrip Upgrade Project or “CUP West,” would respond to these requests for transmission service.

BPA will prepare an EIS under NEPA to assist the agency as it decides whether to perform these proposed transmission system upgrades. The EIS will study two alternatives: The proposed system upgrades and a No Action Alternative in which BPA would not upgrade its system and not be able to provide the requested transmission service. BPA will be the lead agency for preparation of the EIS. Cooperating agencies for the EIS may be identified as the proposed project proceeds through the NEPA process.

Public Participation and Identification of Environmental Issues. The potential environmental issues identified for most transmission line projects include land use, socioeconomics, cultural resources, visual resources, electric and magnetic fields, sensitive plants and animals, soil erosion, wetlands, floodplains, and fish and water resources. BPA has established a 45-day scoping period during which tribes, affected landowners, concerned citizens, special interest groups, local and federal governments, and any other interested parties are invited to comment on the scope of the proposed EIS, including the environmental impacts to be evaluated. Scoping will help BPA ensure that a full range of issues related to this proposal is addressed in the EIS, and also will identify significant or potentially significant impacts that may result from the proposed project. When completed, the Draft EIS will be circulated for review and comment, and BPA will hold public meetings to hear comments. The Draft EIS is expected to be published in the fall of 2013. BPA will consider and respond to comments received on the Draft EIS in the Final EIS. The Final EIS is expected to be published in fall of 2014. BPA's decision will be documented in a Record of Decision that will follow the Final EIS.

Issued in Portland, Oregon, on April 23, 2012.
Stephen J. Wright,
Administrator and Chief Executive Officer.

[FR Doc. 2012-10673 Filed 5-2-12; 8:45 am]

BILLING CODE 6450-01-P